DEPARTMENT OF THE INTERIOR

Bureau of Land Management

[UT-920-07-5101-ER-J108; UTU-79766, NVN-82385]

Notice of Intent To Prepare an Environmental Impact Statement for a Proposed Liquid Petroleum Products Pipeline From Woods Cross, UT, to Northeast Las Vegas, NV

AGENCY: Bureau of Land Management, Interior.

ACTION: Notice of Intent (NOI) to prepare an Environmental Impact Statement (EIS) and initiate public scoping for UNEV, LLC's proposal to construct and operate a liquid petroleum products pipeline from Woods Cross, Utah, to northeast Las Vegas, Nevada.

SUMMARY: Pursuant to 42 U.S.C. 4332, the National Environmental Policy Act of 1969, as amended (NEPA), the Bureau of Land Management (BLM) will be directing the preparation of an EIS and conducting public scoping meetings for the proposed construction of a 12” liquid petroleum products pipeline. UNEV, LLC was established by Holly Corporation to construct and operate the pipeline. The proposed route for the UNEV Pipeline is approximately 400 miles in length and would, except for the northernmost portion of the route, generally follow the existing Kern River pipeline corridor. The pipeline inlet would be located near Holly Corporation's Woods Cross, Utah, refinery, which announced last year its intent to upgrade its crude oil processing capabilities, enabling the refinery to process high value, low priced black wax crude oil and heavy Canadian crude oils.

The outlet terminals for the proposed pipeline would be located northwest of Cedar City, Utah, and northeast of Las Vegas, Nevada. In addition to the inlet pumping station, one additional pumping station is proposed with pressure reduction stations located at the terminals. The corridor contains two Kern River Pipeline Company natural gas pipelines, the newest of which was constructed in 2003. The Kern River Pipeline Environmental Impact Statement was completed in 2002. In Utah the proposed UNEV Pipeline would originate in Davis County and cross Salt Lake, Tooele, Juab, Millard, Beaver, Iron, and Washington Counties. In Nevada the pipeline would cross Lincoln County and terminate in Clark County. A map of the proposed project is available for viewing at http://www.blm.gov/ut/st/en/prog/more/lands_and_realty/unev_pipeline_eis.html and the Utah and Nevada State Offices.

The UNEV Pipeline project as proposed would function as a “common carrier” pipeline. In general terms, common carrier is an entity that transports goods or products and offers its transportation services to others. This means that the UNEV Pipeline would provide an alternative means of transportation from other modes, i.e., truck or rail, etc., for refined products from other refineries in the area as well as Holly's refinery.

DATES: This notice initiates the 30-day public scoping process. Those having concerns, issues, or alternatives for consideration in the EIS should submit written comments by September 10, 2007. The BLM will host public scoping meetings in the following locations: Salt Lake City, Delta, and Cedar City, Utah, and Las Vegas, Nevada. Times and dates of these meetings will be announced through the Utah BLM Web site listed above, press releases, local newspapers, and other local media. At the scoping meetings, the public is invited to submit comments and resource information, and identify issues or concerns to be considered in the NEPA process. All comments received at the public scoping meetings or through written comments submitted will aid the BLM in identifying alternatives and mitigating measures and will help assure that all issues are analyzed in the EIS. The BLM will announce public meetings and other opportunities to submit comments on this project at least 15 days prior to the event.

ADDRESSES: Written comments and issues related to the proposed EIS should be mailed to Rhonda Flynn, Bureau of Land Management, Utah State Office, Bureau of Land Management, Division of Lands and Minerals, P.O. Box 45155-0155, Salt Lake City, Utah 84145-0155. Comments may also be transmitted by facsimile to the attention of Rhonda Flynn at: (801) 539-4200, sent via e-mail to: UT_UNEV_Pipeline_EIS@blm.gov or delivered by hand to the: Salt Lake Field Office, 2370 South 2300 West, Salt Lake City, Utah; Fillmore Field Office, 35 East 500 North, Fillmore, Utah; Cedar City Field Office, 176 East D.L. Sargent Drive, Cedar City, Utah; St. George Field Office, 345 East Riverside Drive, St. George, Utah; Utah State Office, 440 West 200 South, Suite 500, Salt Lake City, Utah; Ely Field Office, 702 N. Industrial Way, Ely, Nevada; Las Vegas Field Office, 4701 N. Torrey Pines Drive, Las Vegas, Nevada; or the Nevada State Office, 1340 Financial Blvd., Reno, Nevada. E-mails should include “UNEV Pipeline EIS” in the subject line.

FOR FURTHER INFORMATION CONTACT: Joe Incardine at the Utah State Office, Bureau of Land Management, 440 West 200 South, Suite 500, Salt Lake City, Utah 84101; by phone: (801) 539-4118; or by e-mail: Joe_Incardine@blm.gov.

SUPPLEMENTARY INFORMATION: The EIS will assess the potential impacts of granting a right-of-way (ROW) authorizing subsequent construction, installation, and operation of a liquid petroleum products pipeline and facilities in Davis, Salt Lake, Tooele, Juab, Millard, Beaver, Iron, and Washington Counties in Utah and Lincoln and Clark Counties in Nevada to increase the capacity and improve the efficiency of the fuel delivery system into southern Utah and the Las Vegas, Nevada, area. The pipeline will be available to accept shipments of refined products from multiple refineries in the Salt Lake City, Utah, area, as well as refineries in Wyoming and Montana.

Summary of the Proposed Project

UNEV, LLC is seeking a ROW grant to undertake the following activities:

• Install 400 miles of 12-inch-diameter petroleum products line from Woods Cross, Utah, to Las Vegas, Nevada.

• Construct an inlet pumping station, one additional pumping station about midway along the line, and pressure reduction stations and terminals at Cedar City and Las Vegas.

• Install mainline valves at or near the existing valve locations on the existing Kern River pipeline, where feasible. New valves would be installed on the pipeline to reduce the distance between existing valves for operational and maintenance reasons.

• Install scraper stations, used for launching and receiving the cleaning and inspection “pigs.” New electrical service will be installed at each station.

• Install cathodic protection test stations at approximately 1-mile intervals to maintain and monitor the mechanical integrity of the pipeline.

• Install visible pipeline markers at intervals to mark the approximate location of the pipeline centerline.

The EIS Process

NEPA requires the BLM to take into account the environmental impacts of its actions. The BLM will use the EIS to consider the environmental impacts that could result if a ROW grant for the proposed action is issued pursuant to Section 28 of the Mineral Leasing Act of 1920, as amended (30 U.S.C. 185). The main goal of the scoping process is to focus the analysis in the EIS on the important environmental issues. With this NOI, the BLM is requesting public comments on the scope of the issues to be addressed in the EIS. All comments received will be considered during preparation of the EIS.

The EIS will discuss direct, indirect, and cumulative impacts that could occur as a result of the construction, operation, maintenance, and abandonment of the proposed project under these general headings:

• Geology and Minerals

• Soils

• Water Resources

• Biological Resources

• Threatened and Endangered Species

• Rangeland Resources

• Wilderness, Wilderness Study Areas, and Areas of Critical Environmental Concern

• Land Use and Access

• Recreation and Visual Resources

• Environmental Justice

• Socioeconomics

• Cultural and Paleontological Resources

• Native American Concerns

• Air Quality and Noise

• Hazardous and Solid Waste

• Transportation

• Public Safety

The BLM will also evaluate possible alternatives to the proposed project or portions of the project, and make recommendations on how to lessen or avoid impacts on affected resources.

Analysis of the issues will be included in a draft EIS. The draft EIS will be mailed to affected federal, state, and local government agencies; elected officials; landowners; environmental and public interest groups; Indian tribes and regional Native American organizations; commenters; and other interested parties. A 45-day comment period will be allotted for review of the draft EIS. The BLM will consider all comments on the draft EIS and revise the document, as necessary, before issuing a final EIS. To ensure that your comments are considered, please follow the instructions in the Public Participation section of this NOI.

This EIS may also analyze a plan amendment for the Pony Express Resource Management Plan, should there be federal lands in the proposed action or alternatives not within a designated utility corridor.

Public Participation

Public scoping meetings are planned at five locations. The meetings will provide the public an opportunity to present comments or issues for consideration in the EIS. The meetings will be held in an “open house format” beginning at 5 p.m. and ending at 8 p.m. Specific dates and locations for the public scoping meetings will be provided as noted above in the DATES section.

Comments concerning the Proposed Action and EIS should address relevant issues, feasible alternatives, possible mitigation, and information having a bearing on the Proposed Action.

Your response is important and will be considered in the EIS process. If you respond, the BLM will keep you informed of the availability of environmental documents that address impacts that might occur from this proposal.

Before including your address, phone number, e-mail address, or other personal identifying information in your comment, you should be aware that your entire comment—including your personal identifying information—may be made publicly available at any time. While you can ask us in your comment to withhold your personal identifying information from public review, we cannot guarantee that we will be able to do so.

Selma Sierra,
State Director.

[FR Doc. E7-15580 Filed 8-8-07; 8:45 am]

BILLING CODE 4310-$$-P